DEPARTMENT OF THE INTERIOR

Bureau of Land Management

[LLNM932000.L1430000.HR000 LVDIG10ZGKK0; NMNM114447]

Notice of Application for a Recordable Disclaimer of Interest; NM

AGENCY: Bureau of Land Management, Interior.

ACTION: Notice.

SUMMARY: Mr. Carlos Ortega, Jr., has filed an application with the Bureau of Land Management (BLM) for a Disclaimer of Interest from the United States pursuant to Section 315 of the Federal Land Policy and Management Act of 1976, as amended (FLPMA), and the regulations contained in 43 CFR subpart 1864 for the surface estate of land lying along the right bank of the Rio Caliente river in Rio Arriba County, New Mexico. This Notice provides the public an opportunity to comment on the Disclaimer of Interest application.

DATES: Interested parties may submit written comments regarding the proposed disclaimer of interest on or before January 24, 2011.

ADDRESSES: Comments should be sent to the Deputy State Director, Lands and Resources, BLM, New Mexico State Office, P.O. Box 27115, 301 Dinosaur Trail, Santa Fe, New Mexico 87502.

FOR FURTHER INFORMATION CONTACT: Gilda Fitzpatrick, Realty Specialist, BLM New Mexico State Office, (505) 954-2197. Additional information pertaining to this application can be reviewed in case file NMNM 114447 located in the New Mexico State Office, at the above address.

SUPPLEMENTARY INFORMATION: The purpose of this Disclaimer of Interest is to address the land title status to a parcel of land that is within the exterior boundary of the Carson National Forest. The authority to issue a Disclaimer of Interest for lands within the boundaries of the National Forest system administered by the U.S. Forest Service (USFS) falls to the BLM. The USFS, Southwest Regional Office, requested the BLM process Mr. Ortega's Disclaimer of Interest application after a determination by BLM Cadastral Survey that the east boundary of the parcel is riparian and extends to the medial line of the current location of the Rio Caliente river. The application requests that the United States disclaim any interest in the surface estate of the subject land from their original surveyed and platted location to the center line of the Rio Caliente river. This action will be processed pursuant to Section 315 of the FLPMA (43 U.S.C. 1745) for the following described land:

Carson National Forest, New Mexico Principal Meridian

T. 25 N., R. 8 E.,

Sec. 24, a portion of lot 6.

The area described contains 1.490 acres more or less, in Rio Arriba County. Individual respondents may request confidentiality. Before including your address, phone number, e-mail address, or other personal identifying information in your comment, you should be aware that your entire comment—including your personal identifying information—may be made publicly available at any time. While you can ask us in your comment to withhold your personal identifying information from public review, we cannot guarantee that we will be able to do so.

A final decision on the merits of the application will not be made before January 24, 2011.

If no valid objection is received, a Disclaimer of Interest may be approved stating that the United States does not have a valid interest in these surface lands.

(Authority: 43 CFR 1864.2)

William Merhege,
Deputy State Director, Division of Lands and Resources.

[FR Doc. 2010-27047 Filed 10-25-10; 8:45 am]

BILLING CODE 4310-FB-P